DEPARTMENT OF ENERGY

Federal Energy Regulatory Commission

[Docket No. EC07-17-000]

SUEZ S.A.; SUEZ Energy North America, Inc.; Chehalis Power Generating, LLC; Hot Spring Power Company, LLC; SUEZ Energy Marketing NA, Inc.; Choctaw Gas Generation LLC; Choctaw Generation Limited Partnership; Tractebel Choctaw Operations, Inc.; Hopewell Cogeneration Limited Partnership; Northeast Energy Associates; North Jersey Energy Associates; Northeastern Power Company; Pinetree Power Fitchburg, Inc.; Pinetree Power, Inc.; Pinetree Power-Tamworth, Inc.; Ryegate Associates; SUEZ Energy Generation NA, Inc.; Winooski One Partnership; Energy Equipment Leasing LLC; SUEZ-DEGS of Silver Grove, LLC; SUEZ-DEGS of Ashtabula LLC; SUEZ-DEGS of Rochester LLC; SUEZ-DEGS of Tuscola LLC; Colorado-Golden Energy Corporation; Trigen-Nassau Energy Corporation; Colorado Energy Nations Company, LLLP; Revere Energy Corporation; Syracuse Energy Corporation; Viking Energy of Lincoln, Inc.; Viking Energy of McBain, Inc.; Viking Energy of Northumberland A Limited Partnership; Gaz de France SA; Notice of Filing

January 19, 2007.

Take notice that on January 16, 2007, SUEZ S.A., SUEZ Energy North America, Inc. (SENA), Chehalis Power Generating, LLC, et al., filed an amendment to the section 203 application filed November 9, 2006 in the above referenced docket, requesting the Commission to make appropriate substitutions and corrections necessary to identify each of SENA's jurisdictional subsidiaries as an applicant and incorporate certain changes to the language contained in Exhibit M.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5 p.m. Eastern Time on January 23, 2007.

Magalie R. Salas,
Secretary.

[FR Doc. E7-1170 Filed 1-25-07; 8:45 am]

BILLING CODE 6717-01-P